POSTAL REGULATORY COMMISSION

[Docket No. ACR2023; Order No. 6932]

Postal Service Performance Report and Performance Plan

AGENCY: Postal Regulatory Commission.

ACTION: Notice.

SUMMARY: On December 29, 2023, the Postal Service filed the FY 2023 Performance Report and FY 2024 Performance Plan with its FY 2023 Annual Compliance Report. This notice informs the public of the filing, invites public comment, and takes other administrative steps.

DATES:

Comments are due: March 15, 2024.

Reply Comments are due: March 29, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Request for Comments

III. Ordering Paragraphs

I. Introduction

Each year the Postal Service must submit to the Commission its most recent annual performance plan and annual performance report.¹ On December 29, 2023, the Postal Service filed its FY 2023 Annual Report to Congress in Docket No. ACR2023.² The FY 2023 Annual Report consists of four reports that include the Postal Service's FY 2023 annual performance report (FY 2023 Report) and FY 2024 annual performance plan (FY 2024 Plan).³

¹ 39 U.S.C. 3652(g)(2) and (3); 39 CFR 3050.43(b)(2) and (3).

² United States Postal Service Fiscal Year 2023 Annual Report to Congress, Library Reference USPS-FY23-17, December 29, 2023, ZIP folder “USPS.FY23.17_ARC.Files” file “FY2023.Annual.Report.to.Congress.pdf” (FY 2023 Annual Report).

³ FY 2023 Annual Report at 38-60. The FY 2023 Annual Report also includes the Postal Service's FY 2023 Annual Report and FY 2023 Comprehensive Statement on Postal Service Operations. Id. at 2.

The FY 2024 Plan reviews the Postal Service's plans for FY 2024. The FY 2023 Report discusses the Postal Service's progress during FY 2023 toward its four performance goals:

• High-Quality Service

• Excellent Customer Experience

• Safe Workplace and Engaged Workforce

• Financial Health

Each year, the Commission must evaluate whether the Postal Service met the performance goals established in the annual performance plan and annual performance report. 39 U.S.C. 3653(d). The Commission may also “provide recommendations to the Postal Service related to the protection or promotion of public policy objectives set out in” Title 39. Id.

Since Docket No. ACR2013, the Commission has evaluated whether the Postal Service met its performance goals in reports separate from the Annual Compliance Determination.⁴ The Commission continues this current practice to provide a more in-depth analysis of the Postal Service's progress toward meeting its performance goals and plans to improve performance in future years. To facilitate this review, the Commission invites public comment on the following issues:

⁴ See Docket No. ACR2013, Postal Regulatory Commission, Review of Postal Service FY 2013 Performance Report and FY 2014 Performance Plan, July 7, 2014; Docket No. ACR2014, Postal Regulatory Commission, Analysis of the Postal Service's FY 2014 Program Performance Report and FY 2015 Performance Plan, July 7, 2015; Docket No. ACR2015, Postal Regulatory Commission, Analysis of the Postal Service's FY 2015 Annual Performance Report and FY 2016 Performance Plan, May 4, 2016; Docket No. ACR2016, Postal Regulatory Commission, Analysis of the Postal Service's FY 2016 Annual Performance Report and FY 2017 Performance Plan, April 27, 2017; Docket No. ACR2017, Postal Regulatory Commission, Analysis of the Postal Service's FY 2017 Annual Performance Report and FY 2018 Performance Plan, April 26, 2018; Docket No. ACR2018, Postal Regulatory Commission, Analysis of the Postal Service's FY 2018 Annual Performance Report and FY 2019 Performance Plan, May 13, 2019; Docket No. ACR2019, Postal Regulatory Commission, Analysis of the Postal Service's FY 2019 Annual Performance Report and FY 2023 Performance Plan, June 1, 2023; Docket No. ACR2020, Postal Regulatory Commission, Analysis of the Postal Service's FY 2020 Annual Performance Report and FY 2021 Performance Plan, June 2, 2021; Docket No. ACR2021, Postal Regulatory Commission, Analysis of the Postal Service's FY 2021 Annual Performance Report and FY 2022 Performance Plan, June 30, 2022; Docket No. ACR2022, Postal Regulatory Commission, Analysis of the Postal Service's FY 2022 Annual Performance Report and FY 2023 Performance Plan, June 28, 2023.

• Did the Postal Service meet its performance goals in FY 2023?

• Do the FY 2023 Report and the FY 2024 Plan meet applicable statutory requirements, including 39 U.S.C. 2803 and 2804?

• What recommendations should the Commission provide to the Postal Service that relate to protecting or promoting public policy objectives in Title 39?

• For the Excellent Customer Experience performance goal, are there any customer experience (CX) metrics the Postal Service should add to measure CX? ⁵

⁵ In FY 2023, the Postal Service measured CX based on customer surveys. See Docket No. ACR2023, Library Reference USPS-FY23-38, December 29, 2023, ZIP folder “FY23.38.Files.zip” PDF file “CX_Surveys_FY23.pdf.

• What recommendations or observations should the Commission make concerning the Postal Service's strategic initiatives? ⁶

⁶ See FY 2023 Annual Report at 59-60.

• What other matters are relevant to the Commission's analysis of the FY 2023 Report and the FY 2024 Plan under 39 U.S.C. 3653(d)?

II. Request for Comments

Comments by interested persons are due no later than March 15, 2024. Reply comments are due no later than March 29, 2024. Pursuant to 39 U.S.C. 505, Kenneth R. Moeller is appointed to serve as Public Representative to represent the interests of the general public in this proceeding with respect to issues related to the Commission's analysis of the FY 2023 Report and the FY 2024 Plan.

III. Ordering Paragraphs

It is ordered:

1. The Commission invites public comment on the Postal Service's FY 2023 Report and FY 2024 Plan.

2. Pursuant to 39 U.S.C. 505, the Commission appoints Kenneth R. Moeller to serve as Public Representative to represent the interests of the general public in this proceeding with respect to issues related to the Commission's analysis of the FY 2023 Report and the FY 2024 Plan.

3. Comments are due no later than March 15, 2024.

4. Reply comments are due no later than March 29, 2024.

5. The Secretary shall arrange for publication of this Order in the Federal Register.

By the Commission.
Jennie L. Jbara,
Alternate Certifying Officer.

[FR Doc. 2024-00700 Filed 1-16-24; 8:45 am]

BILLING CODE 7710-FW-P